DEPARTMENT OF TRANSPORTATION

Office of the Secretary

49 CFR Part 40

[Docket OST-2006-24112]

RIN 2105-AD57

Procedures for Transportation Workplace Drug and Alcohol Testing Programs: Corrections to the Federal Register

AGENCY: Office of the Secretary, DOT.

ACTION: Final rule; correction.

SUMMARY: The Department of Transportation published in the Federal Register of August 23, 2006, a final rule (effective September 22, 2006) which added state-licensed or certified marriage and family therapists to the list of credentialed professionals eligible to serve as substance abuse professionals under subpart O of 49 CFR part 40. The final rule also made a series of technical amendments to its drug and alcohol testing procedural rule. This notice corrects a misspelling in the final rule and adds text that was discussed in the preamble but omitted in the rule text.

DATES: This correction is effective September 22, 2006.

FOR FURTHER INFORMATION CONTACT: Bohdan Baczara, Office of Drug and Alcohol Policy and Compliance, 400 Seventh Street, SW., Washington, DC 20590; 202-366-3784 (voice), 202-366-3897 (fax), or bohdan.baczara@dot.gov (e-mail).

SUPPLEMENTARY INFORMATION: The Office of Drug & Alcohol Policy & Compliance published a final rule in the Federal Register (71 FR 49382). In this rule, there was a typographical error and an omission of text. This notice will correct these oversights.

In rule FR Doc. E6-13956 published on August 23, 2006 (71 FR 49382) make the following corrections.

§ 40.3 [Corrected]

1. On page 49384, in the second column, third line, replace the word “Material” with “Materials”.

§ 40.281 [Corrected]

2. On page 49384, in the third column, add a new instruction 10a following the amendment to § 40.281 to read as follows:

“10a. Section 40.281 is further amended in the introductory text after the word ‘drug’ by adding the text ‘and alcohol’.”

Dated: September 14, 2006.
Jim L. Swart,
Acting Director, Office of Drug and Alcohol Policy and Compliance, United States Department of Transportation.

[FR Doc. E6-15617 Filed 9-21-06; 8:45 am]

BILLING CODE 4910-9X-P